DEPARTMENT OF ENERGY

Federal Energy Regulatory Commission

[Project No. 2790-074]

Boott Hydropower, LLC; Notice of Application Tendered for Filing With the Commission and Establishing Procedural Schedule for Licensing and Deadline for Submission of Final Amendments

Take notice that the following hydroelectric application has been filed with the Commission and is available for public inspection.

a. Type of Application: New Major License.

b. Project No.: 2790-074.

c. Date Filed: April 30, 2021.

d. Applicant: Boott Hydropower, LLC (Boott).

e. Name of Project: Lowell Hydroelectric Project.

f. Location: The existing project is located on Merrimack River in Middlesex County, Massachusetts and Hillsborough County, New Hampshire. The project does not occupy any federal land but is located within the administrative boundary of the Lowell National Historical Park.

g. Filed Pursuant to: Federal Power Act, 16 U.S.C. 791 (a)-825(r).

h. Applicant Contact: Kevin Webb, Licensing Manager, Boott Hydropower, LLC, 670 N Commercial Street, Suite 204, Manchester, NH 03101; Phone at (978) 935-6039, or email at kwebb@centralriverspower.com.

i. FERC Contact: Amy Chang, (202) 502-8250 or amy.chang@ferc.gov.

j. This application is not ready for environmental analysis at this time.

k. Project Description: The existing Lowell Hydroelectric Project consists of: (1) The 1,093-foot-long, 15-foot-high Pawtucket Dam; (2) a 720-acre impoundment with a normal maximum water surface elevation of 92.2 feet National Geodetic Vertical Datum of 1929 (NGVD); (3) the 5.5-mile-long Northern and Pawtucket Canal System that includes several small dams and gatehouses; (4) generating facilities, including: (a) One powerhouse facility located on the mainstem of the Merrimack River (E. L. Field Powerhouse), with a total authorized installed capacity of 15.012 MW and a 440-foot-long tailrace to the Merrimack River; and (b) four power stations located along the canal system (Hamilton Power Station, Assets Power Station, Bridge Street Power Station, and John Street Power Station), with a total combined authorized capacity of 5.152 MW; (5) an approximately 2-mile-long, 13.8-kilovolt. submarine cable that connects the project generating facilities to the regional electric grid; (6) upstream and downstream fish passage facilities; (7) a visitor center; and (8) appurtenant facilities.

The project bypasses approximately two miles of the Merrimack River, including a 0.7-mile-long bypassed reach from the Pawtucket Dam to the E.L. Field Powerhouse tailrace and an approximately 1.3-mile-long bypassed reach from the E.L. Field Powerhouse tailrace to the confluence of the Merrimack and Concord Rivers.

The current license requires Boott to release an instantaneous minimum flow of 1,990 cfs or inflow, whichever is less, downstream of the project. Boott provides the minimum flow through spillage over the Pawtucket Dam, discharge from the project turbines, and the fish passage facilities.

In the license application, Boott proposes to remove the four power stations located along the canal system (Hamilton Power Station, Assets Power Station, Bridge Street Power Station, and John Street Power Station) and associated canals and infrastructure from the current project boundary, and not to include the four power stations and associated canals and infrastructure as part of any new license. The proposed project would include the portion of the Northern Canal necessary to operate the E.L. Field Powerhouse, and the upper portion of the Pawtucket Canal. Boott states that it would “continue to manage the canal structures, water levels and flows using best practices and consistent with current agreements with the National Park Service and other stakeholders.”

In the license application, Boott proposes to operate the project in run-of-river mode. Boott proposes to provide a minimum flow of 500 cfs to the bypassed reach via the Pawtucket Dam fish ladder during the fish passage season (typically May 1-July 15), and 100 cfs outside of the fish passage season. Boott also proposes to replace the existing fish lift at the E.L. Field Powerhouse with a fish ladder to pass migratory fish from the E.L. Field Powerhouse tailrace to the bypassed reach, such that all fish would be passed upstream of the project via the existing fish ladder at the Pawtucket Dam. Finally, Boott proposes to develop a decommissioning plan for each of the four power stations and the canal system within 18 months of license issuance.

l. In addition to publishing the full text of this document in the Federal Register, the Commission provides all interested individuals an opportunity to view and/or print the contents of this document and the full license application via the internet through the Commission's Home Page (www.ferc.gov) using the “eLibrary” link. Enter the docket number excluding the last three digits in the docket number field to access the document (P-2790). At this time, the Commission has suspended access to the Commission's Public Reference Room due to the proclamation declaring a National Emergency concerning the Novel Coronavirus Disease (COVID-19), issued on March 13, 2020. For assistance, contact FERC at FERCOnlineSupport@ferc.gov or call toll-free, (886) 208-3676 or TTY, (202) 502-8659. A copy of the full license application is also available for inspection and reproduction at the Pollard Memorial Library, 276 Broadway Street, Lowell, MA 01854, or at the Nashua Public Library, 2 Court Street, Nashua, NH 03060.

m. You may also register online at https://ferconline.ferc.gov/FERCOnline.aspx to be notified via email of new filings and issuances related to this or other pending projects. For assistance, contact FERC Online Support.

n. Procedural Schedule: On June 12, 2020, Commission staff issued a revised process plan and schedule that includes milestones and dates for the filing and review of Boott's outstanding study reports under the Integrated Licensing Process. After Boott completes and files the outstanding study reports, Commission staff will issue a revised procedural schedule with target dates for the post-filing milestones listed below.

Milestone | Target date
Notice of Acceptance/Notice of Ready for Environmental Analysis | TBD.
Filing of recommendations, preliminary terms and conditions, and fishway prescriptions | TBD.

o. Final amendments to the application must be filed with the Commission no later than 30 days from the issuance date of the notice of ready for environmental analysis.

Dated: May 13, 2021.
Kimberly D. Bose,
Secretary.

[FR Doc. 2021-10537 Filed 5-18-21; 8:45 am]

BILLING CODE 6717-01-P